DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 78 FR 32404-32405 dated May 30, 2013).

This notice reflects organizational changes in the Health Resources and Services Administration (HRSA). Specifically, this notice abolishes the Office of Special Health Affairs (OSHA) (RA1) and transfers functions to other areas throughout HRSA. (1) The Office of Health Equity (RAB) function will transfer from OSHA to the Office of the Administrator (RA); (2) the Office of Global Health Affairs (RPJ) function will transfer from OSHA to the Bureau of Health Professions (RP); (3) the Office of Strategic Priorities will be abolished, the oral and behavioral health function will transfer to the Bureau of Health Professions (RP); (4) the Office of Emergency Preparedness and Continuity of Operations function will transfer to the Office of Information Technology (RB5); (5) the Office of Health Information Technology and Quality will be abolished and functions will transfer to (a) the Healthcare Systems Bureau (RR); (b) the Office of Rural Health Policy (RH); and (c) the Office of Planning, Analysis and Evaluation (RA5); (6) establishes the Office of Performance and Quality Measurement (RA58) within the Office of Planning, Analysis and Evaluation (RA5). HRSA will benefit from the improvements and efficiencies gained through this reorganization.

Chapter RA—Office of the Administrator

Section RA-10, Organization

Delete in its entirety and replace with the following:

The Office of the Administrator (RA) is headed by the Administrator, Health Resources and Services Administration, who reports directly to the Secretary. The Office of the Administrator includes the following components:

(1) Immediate Office of the Administrator (RA);

(2) Office of Equal Opportunity, Civil Rights, and Diversity Management (RA2);

(3) Office of Planning, Analysis and Evaluation (RA5);

(4) Office of Communications (RA6);

(5) Office of Legislation (RAE);

(6) Office of Women's Health (RAW); and

(7) Office of Health Equity (RAB).

Section RA-20, Functions

Delete the functional statement for the Office of Special Health Affairs (RA1). Establish the functional statement for the Office of Health Equity (RAB) within the Office of the Administrator (RA).

Office of Health Equity (RAB)

Serves as the principal advisor and coordinator to the Agency for the special needs of minority and disadvantaged populations, including: (1) Providing leadership and direction to address HHS and HRSA Strategic Plan goals and objectives related to improving minority health and eliminating health disparities; (2) establishing and managing an Agency-wide data collection system for minority health activities and initiatives including the White House Initiatives for Historically Black Colleges and Universities, Educational Excellence for Hispanic Americans, Tribal Colleges and Universities, Asian Americans and Pacific Islanders, and departmental initiatives; (3) implementing activities to increase the availability of data to monitor the impact of Agency programs in improving minority health and eliminating health disparities; (4) participating in the formulation of HRSA's goals, policies, legislative proposals, priorities, and strategies as they affect health professional organizations and institutions of higher education and others involved in or concerned with the delivery of culturally-appropriate, quality health services to minorities and disadvantaged populations; (5) consulting with federal agencies and other public and private sector agencies and organizations to collaborate in addressing health equity, including enhancing cultural competence in health service providers; (6) establishing short-term and long-range objectives; and (7) participating in the focus of activities and objectives in assuring equity in access to resources and health careers for minorities and the disadvantaged.

Chapter RP—Bureau of Health Professions

Section RP-10, Organization

Delete in its entirety and replace with the following:

The Bureau of Health Professions is (RP) is headed by the Associate Administrator, Bureau of Health Professions, who reports directly to the Administrator, Health Resources and Services Administration (RA). The Bureau of Health Professions includes the following components:

(1) Office of the Associate Administrator (RP);

(2) Office of Administrative Management Services (RP1);

(3) Office of Global Health Affairs (RPJ);

(4) Office of Policy Coordination (RP3);

(5) Office of Performance Measurement (RP4);

(6) Division of Public Health and Interdisciplinary Education (RPF);

(7) Division of Medicine and Dentistry (RPC);

(8) Division of Nursing (RPB);

(9) Division of Practitioner Data Banks (RPG);

(10) Division of Student Loans and Scholarships (RPD); and

(11) National Center for Health Workforce (RPW).

Section RP-20, Functions

Delete and replace the functional statement for (1) the Bureau of Health Professions (RP); (2) the Office of the Associate Administrator; (3) the Division of Public Health and Interdisciplinary Education; (4) the Division of Medicine and Dentistry; and (5) establish the functional statement for the Office of Global Health Affairs (RPJ).

Bureau of Health Professions (RP)

The Bureau of Health Professions' programs are designed to improve the health of the nation's underserved communities and vulnerable populations by assuring a diverse, culturally competent workforce that is ready to provide access to quality health care services. Bureau of Health Professions' program components provide workforce studies, including research analysis of alternative methodologies for areas of need, training grants for health professions, financial support to students, information to protect the public from unsafe health care practitioners, support for graduate medical education at the nation's freestanding children's hospitals and teaching health centers, and coordinate global health activities. The Health Professions Training Program awards grants to health profession schools and training programs in every state. Grantees use the funds to develop, expand, and enhance their efforts to train the workforce America needs.

Office of the Associate Administrator (RP)

The Office of the Associate Administrator provides overall leadership, direction, coordination, and planning in support of the Bureau of Health Professions' programs to ensure alignment and support of the Agency mission and strategic objectives. Specifically, the Office of the Associate Administrator: (1) Directs and provides policy guidance for workforce recruitment, student assistance, training, and placement of health professionals to serve in underserved areas; (2) establishes program goals and priorities, and provides oversight of program quality and integrity in execution; (3) maintains effective relationships within HRSA and with other federal and nonfederal agencies, state and local governments, and other public and private organizations concerned with health workforce development and improving access to health care for the nation's underserved; (4) plans, directs, and coordinates bureau-wide management and administrative activities; (5) leads and guides bureau programs in recruiting and retaining a diverse workforce; and (6) coordinates, reviews, and provides clearance of correspondence and official documents entering and leaving the bureau.

Office of Global Health Affairs (RPJ)

Serves as the principal advisor to the Agency on global health issues. Specifically: (1) Provides leadership, coordination, and advancement of global health activities relating to health care services for vulnerable and at-risk populations and for training programs for HRSA programs; (2) provides support for the Agency's International Visitors Program; and (3) provides leadership within HRSA for the support of global health and coordinates policy development with the HHS Office of Global Health Affairs and other departmental agencies.

Division of Public Health and Interdisciplinary Education (RPF)

The Division of Public Health and Interdisciplinary Education serves as the bureau's lead for increasing the public health and behavioral health workforce, promoting interdisciplinary health professions issues and programs, including geriatric training, and increasing the diversity of the health professions workforce. Specifically: (1) Provides grants and technical assistance to expand and enhance training critical to the current and future public health workforce, supports academic-community partnerships, expands and improves the quality of health professions interdisciplinary and inter-professional education, expands health career opportunities for diverse and disadvantaged populations and supports and guides the career development in geriatric specialties; (2) evaluates programmatic data and promotes the dissemination and application of findings arising from supported programs; (3) collaborates within the bureau to conduct, support, or obtain analytical studies to determine the present and future supply requirements of the healthcare workforce in the areas addressed by the Division of Public Health and Interdisciplinary Education's programs; (4) provides leadership and staff support for the Advisory Committee on Interdisciplinary, Community-Based Linkages; and (5) represents the bureau, Agency, and federal government, as designated, on national committees, and maintains effective relationships within HRSA and with other federal and non-federal agencies, state and local governmental agencies, and other public and private organizations concerned with public health and behavioral health workforce development, and improving access to health care for the nation's underserved.

Division of Medicine and Dentistry (RPC)

The Division of Medicine and Dentistry serves as the bureau's lead in support and evaluation of medical and dental personnel development and utilization including (a) primary care physicians, (b) dentists, (c) dental hygienists, and (d) physician assistants to provide health care in underserved areas. Specifically: (1) Administers grants to educational institutions for the development, improvement, and operation of educational programs for primary care physicians (pre-doctoral, residency) and physician assistants, including support for community-based training and funding for faculty development to teach in primary care specialties training; (2) provides technical assistance and consultation to grantee institutions and other governmental and private organizations on the operation of these educational programs which includes funding for the nation's free standing children's hospitals to support graduate medical education; (3) evaluates programmatic data and promotes the dissemination and application of findings arising from supported programs; (4) collaborates within the bureau to conduct, support, or obtain analytical studies to determine the present and future supply and requirements of physicians, dentists, dental hygienists and physician assistants by specialty, geographic location, and for state planning efforts; (5) encourages community-based training opportunities for primary care providers, particularly in underserved areas; (6) provides leadership and staff support for the Advisory Committee on Training in Primary Care Medicine and Dentistry and for the Council on Graduate Medical Education; and (7) represents the bureau, Agency, and federal government, as designated, on national committees maintaining effective relationships within HRSA and with other federal and non-federal agencies, state and local governments, and other public and private organizations concerned with health personnel development and improving access to health care for the nation's underserved.

Chapter RB5—Office of Information Technology

Section RB5-10, Organization

The Office of Information Technology (RB5) is headed by the Director, Office of Information Technology, who reports to the Chief Operating Officer, Office of Operations (RB).

Section RB5-20, Functions

Delete and replace the functional statement for the Office of the Director and Chief Information Officer (RB5).

Office of the Director and Chief Information Officer (RB5)

The Chief Information Officer is responsible for the organization, management, and administrative functions necessary to carry out the responsibilities of the Chief Information Officer including: (1) Provides organizational development, investment control, budget formulation and execution, policy development, strategic and tactical planning, and performance monitoring; (2) provides leadership in the development, review, and implementation of policies and procedures to promote improved information technology management capabilities and best practices throughout HRSA; (3) coordinates Information Technology (IT) workforce issues and works closely with the Office of Management on IT recruitment and training issues; (4) coordinates HRSA activities related to emergency preparedness planning and policy; (5) oversees the HRSA Emergency Operations Center; (6) serves as HRSA's liaison to HHS and interagency partners on emergency preparedness matters; (7) coordinates HRSA continuity of operations and continuity of Government activities and maintains HRSA's Alternate Operating Facilities; and (8) provides guidance on workforce health protection issues for emergencies and disasters.

Chapter RR—Healthcare Systems Bureau

Section RR-10, Organization

The Healthcare Systems Bureau (RR) is headed by the Associate Administrator, Healthcare Systems Bureau, who reports to the Administrator, Health Resources and Services Administration (RA).

Section RR-20, Functions

Delete and replace the functional statement for the Division of Vaccine Injury Compensation (RR4).

Division of Vaccine Injury Compensation (RR4)

The Division of Vaccine Injury Compensation, on behalf of the Secretary of Health and Human Services, administers all statutory authorities related to the operation of the National Vaccine Injury Compensation Program by: (1) Evaluating petitions for compensation filed under the National Vaccine Injury Compensation Program through medical review and assessment of compensability for all complete claims; (2) processing awards for compensations made under the National Vaccine Injury Compensation Program; (3) promulgating regulations to revise the Vaccine Injury Table; (4) providing professional and administrative support to the Advisory Commission on Childhood Vaccines; (5) developing and maintaining all automated information systems necessary for program implementation; (6) providing and disseminating program information; (7) maintaining a working relationship with the Department of Justice and the U.S. Court of Federal Claims in the administration and operation of the National Vaccine Injury Compensation Program; (8) providing management, direction, budgetary oversight, coordination, and logistical support for the Medical Expert Panel contracts as well as Clinical Reviewer Contracts; (9) maintaining responsibility for activities related to the Advisory Commission on Childhood Vaccines, the development of policy, regulations, budget formulation, and legislation, including the development and renewal of the Advisory Commission on Childhood Vaccines charter and action memoranda to the Secretary, and the analysis of the findings and proposals of the Advisory Commission on Childhood Vaccines; (10) developing, reviewing, and analyzing pending and new legislation relating to program changes, new initiatives, the Advisory Commission on Childhood Vaccines, and changes to the Vaccine Injury Table, in coordination with the Office of the General Counsel; (11) providing programmatic outreach efforts to maximize public exposure to private and public constituencies; (12) providing submission of special reports to the Secretary of the Department of Health and Human Services, the Office of Management and Budget, the Congress, and other governmental bodies; (13) providing the coordination of Advisory Commission on Childhood Vaccines travel, personnel, meeting sites, and its agenda; (14) provides guidance in using the results of the medical claims review process to HRSA programs to improve quality; and (15) provides support for the Department's Medical Claims Review Panel.

Chapter RH—Office of Rural Health Policy

Section RH-10, Organization

The Office of Rural Health Policy (RH) is headed by the Associate Administrator, Office of Rural Health Policy, who reports to the Administrator, Health Resources and Services Administration (RA).

Section RH-20, Functions

Delete and replace the functional statement for the Office of the Associate Administrator (RH).

Office of the Associate Administrator (RH)

The Office of the Administrator is headed by the Associate Administrator who, in conjunction with other management officials within HRSA, is responsible for the overall leadership and management of the Office of Rural Health Policy. The Office of Rural Health Policy serves as a focal point within the Department and as a principal source of advice to the Administrator and Secretary for coordinating efforts to strengthen and improve the delivery of health services to populations in the nation's rural areas and border areas, providing leadership and interacting with stakeholders in the delivery of health care to underserved and at risk populations. Specifically, the Office of Rural Health Policy is organized around the following primary issue areas: Delivery of Health Services: (1) Collects and analyzes information regarding the special problems of rural health care providers and populations; (2) works with states, state hospital associations, private associations, foundations, and other organizations to focus attention on, and promote solutions to, problems related to the delivery of health services in rural communities; (3) provides staff support to the National Advisory Committee on Rural Health and Human Services; (4) stimulates and coordinates interaction on rural health activities and programs in the Agency, Department and with other federal agencies; (5) supports rural health center research and keeps informed of research and demonstration projects funded by states and foundations in the field of rural health care delivery; (6) establishes and maintains a resource center for the collection and dissemination of the latest information and research findings related to the delivery of health services in rural areas; (7) coordinates congressional and private sector inquiries related to rural health; (8) advises the Agency, Administrator and Department on the effects of current policies and proposed statutory, regulatory, administrative, and budgetary changes in the programs established under titles XVIII and XIX of the Social Security Act on the financial viability of small rural hospitals, the ability of rural areas to attract and retain physicians and other health professionals; (9) oversees compliance by CMS with the requirement that rural hospital impact analyses are developed whenever proposed regulations might have a significant impact on a substantial number of small rural hospitals; (10) supports specialized rural programs on minority health, mental health, preventive health education, oral health, and occupational health and safety; (11) directs the management of a nationwide rural health grants program; (12) directs the management of a program of state grants which support collaboration within state offices of rural health; (13) funds radiation exposure screening and education programs that screen eligible individuals adversely affected by the mining, transport and processing of uranium and the testing of nuclear weapons for cancer and other diseases; (14) serves as the focal point for developing policy to promote the coordination and advancement of health information technology, including telehealth to HRSA's programs, including the use of electronic health record systems; (15) develops an Agency-wide health information technology and telehealth strategy for HRSA; (16) assists HRSA components in program-level health information technology efforts; (17) ensures successful dissemination of appropriate information technology advances, such as electronic health records systems, to HRSA programs; (18) works collaboratively with states, foundations, national organizations, private sector providers, as well as departmental agencies and other federal departments in order to promote the adoption of health information technology; (19) ensures the health information technology policy and activities of HRSA are coordinated with those of other HHS components; (20) assesses the impact of health information technology initiatives in the community, especially for the uninsured, underserved, and special needs populations; and (21) translates technological advances in health information technology to HRSA's programs.

Chapter RA5—Office of Planning, Analysis and Evaluation

Section RA5-10, Organization

Delete in its entirety and replace with the following:

The Office of Planning, Analysis and Evaluation (OPAE) is headed by the Director, OPAE, who reports to the Administrator, Health Resources and Services Administration (RA). The OPAE includes the following components:

(1) Office of the Director (RA5);

(2) Office of Policy Analysis (RA53);

(3) Office of Research and Evaluation (RA56);

(4) Office of External Engagement (RA57); and

(5) Office of Performance and Quality Measurement (RA58).

Section RA5-20, Functions

Delete and replace the functional statement for the Office of the Director (RA5) and establish the functional statement for the Office of Performance and Quality Measurement (RA58).

Office of the Director (RA5)

(1) Provides Agency-wide leadership for policy development, data collection and management, major analytic activities, research, and evaluation; (2) develops HRSA-wide policies; (3) coordinates the agency's long term strategic planning process; (4) conducts and/or guides analyses, research, and program evaluation; (5) coordinates the Agency's participation in Department and federal initiatives; (6) as requested, develops, implements, and coordinates policy processes for the Agency for key major cross-cutting policy issues; (7) facilitates policy development by maintaining analytic liaison between the Administrator, other OPDIVs, Office of the Secretary staff components, and other Departments on critical matters involving program policy undertaken in the Agency; (8) provides data analyses, graphics presentations, briefing materials, and analyses on short notice to support the immediate needs of the Administrator and Senior Leadership; (9) conducts special studies and analyses and/or provides analytic support and information to the Administrator and Senior Leadership needed to support the Agency's goals and directions; (10) collaborates with the Office of Operations in the development of budgets, performance plans, and other administration reporting requirements; (11) provides support, policy direction, and leadership for HRSA's health quality efforts; (12) produces regular HRSA-wide program performance reports and plans.

Office of Performance and Quality Measurement (RA58)

(1) Serves as the principal Agency resource for performance and quality measurement and reporting and for supporting HRSA in its implementation of the National Quality Strategy; (2) produces regular HRSA-wide program performance reports and plans in compliance with the Government Performance and Results Act Modernization Act, and OMB and departmental directives, including performance budget material and web-based data system reports; (3) provides technical assistance to HRSA divisions in the selection, development, maintenance, and alignment of performance measures; (4) provides support, policy direction, and leadership for HRSA's health quality measurement efforts, including assists HRSA components in health quality assessment and measuring the impact of health quality initiatives in the community, especially for the uninsured, underserved, and special needs populations; and (5) collaborates with other HHS agencies to promote improvements in the availability of performance- and quality-related information.

Section RA5-30, Delegations of Authority

All delegations of authority and re-delegations of authority made to HRSA officials that were in effect immediately prior to this reorganization, and that are consistent with this reorganization, shall continue in effect pending further re-delegation.

This reorganization is effective upon date of signature.

Dated: June 17, 2013.
Mary K. Wakefield,
Administrator.

[FR Doc. 2013-15420 Filed 6-26-13; 8:45 am]

BILLING CODE 4165-15-P